DEPARTMENT OF COMMERCE

[I.D. 070104F]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Marine Mammal Stranding Report/Marine Mammal Rehabilitation Disposition Report.

Form Number(s): NOAA Form 89-864.

OMB Approval Number: 0648-0178.

Type of Review: Regular submission.

Burden Hours: 2,400.

Number of Respondents: 4,800.

Average Hours Per Response: 30 minutes.

Needs and Uses: The marine mammal stranding report provides information on strandings so that NMFS can compile and analyze by region the species, numbers, conditions, and causes of illnesses and deaths in stranded marine mammals. The Agency requires this information to fulfill its management responsibilities under the Marine Mammal Protection Act (16 U.S.C. 1421a). The Agency is also responsible for the welfare of marine mammals while in rehabilitation status. The data from the marine mammal rehabilitation disposition reports are required for monitoring and tracking of marine mammals held at various NMFS-authorized facilities. The information is submitted primarily by volunteer members of the marine mammal stranding networks who are authorized by the Agency.

Affected Public: Business or other for-profit organizations, Not-for-profit institutions, Federal Government, and State, Local or Tribal Government.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number 202-395-7285, or David_Rostker@omb.eop.gov.

Dated: June 30, 2004.
Gwellnar Banks,
Management Analyst, Office of the Chief Information Officer.

[FR Doc. 04-15400 Filed 7-6-04; 8:45 am]

BILLING CODE 3510-22-S